ENVIRONMENTAL PROTECTION AGENCY

[EPA-HQ-OPP-2007-0172; FRL-8118-5]

The Association of American Pesticide Control Officials (AAPCO)/State FIFRA Issues Research and Evaluation Group (SFIREG) Working Committee on Pesticide Operations and Management (WC/POM); Notice of Public Meeting

AGENCY: Environmental Protection Agency (EPA).

ACTION: Notice.

SUMMARY: The Association of American Pesticide Control Officials (AAPCO)/State FIFRA Issues Research and Evaluation Group (SFIREG) Working Committee on Pesticide Operations and Management (WC/POM) will hold a 2-day meeting, beginning on April 2, 2007 and ending April 3, 2007. This notice announces the location and times for the meeting and sets forth the tentative agenda topics.

DATES: The meeting will be held on April 2, 2007 from 8:30 a.m. to 5 p.m. and 8:30 a.m. to 12 noon on April 3, 2007.

To request accommodation of a disability, please contact the person listed under FOR FURTHER INFORMATON CONTACT, preferably at least 10 days prior to the meeting, to give EPA as much time as possible to process your request.

ADDRESSES: The meeting will be held at Marriott Boston Long Wharf, Boston, MA.

FOR FURTHER INFORMATION CONTACT: Georgia McDuffie, Field and External Affairs Division, (7506P), Office of Pesticide Programs, Environmental Protection Agency, 1200 Pennsylvania Ave., NW., Washington, DC 20460-0001; telephone number: (703) 605-0195; fax: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if all parties interested in SFIREG information exchange relationship with EPA regarding important issues related to human health, environmental exposure to pesticides, and insight into EPA's decision-making process are invited and encouraged to attend the meetings and participate as appropriate. ”

Potentially affected entities may include, but are not limited to: those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPPT-2007-0172. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Tentative Agenda

1. Update on NAFTA Labeling

2. Update on Label I.D. Project

3. New Issue Paper on Underground Chemigation

4. Use of “Recommended” Regarding Rate Section on Pesticide labels

5. Notice 2000-5

6. Revising Time Factors for Estimating Inspection Costs for Grant Purposes

7. Rodenticide RUP Status

8. Review expedited Section 18 Form and Guidance

9. Fund Raising Logos on Section 3 Labels

10. Residue Check Sample Program

11. Drift Language Recommendations from PPDC

12. Update on WPS and C and T Proposed Rule Change

13. PIRT Training and Potential for Recertification of Federal Credentials

14. Enforcement Issues with F and WS Regarding Sampling of Endangered Species

15. OECA PART Measures Data Review Committee

16. EPA Update/Briefing

a. Office of Pesticide Programs Update

b. Office of Enforcement Compliance Assurance Update

17. POM Working Committee Workgroups Issue Papers/Updates

List of Subjects

Environmental protection.

Dated: February 26, 2007.
William R. Diamond,
Director, Field External Affairs Division, Office of Pesticide Programs

[FR Doc. E7-4381 Filed 3-13-07; 8:45 am]

BILLING CODE 6560-50-S